DEPARTMENT OF DEFENSE

Department of the Navy

Notice of Intent to Grant Partially Exclusive License; IBICUI Corporation, Inc.

AGENCY: Department of the Navy, DoD.

ACTION: Notice.

SUMMARY: The Department of the Navy gives notice of its intent to grant IBICUI Corporation, Inc., a revocable, nonassignable, partially exclusive license, with exclusive fields of use in pharmaceutical, agricultural, UV stabilizer, dye/colorant, gas generator, and functional fluid fields, in the United States to practice the Government-owned invention, U.S. Patent Number 6,423,844 B1 entitled “Process for Making 1,2,4-triazolo[4,3-A][1,3,5]triazine-3,5,7-triamine.”

DATES: Anyone wishing to object to the grant of this license must file written objections along with supporting evidence, if any, not later than April 30, 2003.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: March 3, 2003.
Robert E. Vincent II,
Lieutenant Commander, Judge Advocate General's Corps, U.S. Navy, Federal Register Liaison Officer.

[FR Doc. 03-5851 Filed 3-11-03; 8:45 am]

BILLING CODE 3810-FF-P